Proclamation 7945 of October 7, 2005

General Pulaski Memorial Day, 2005

By the President of the United States of America

A Proclamation

America's freedom has been achieved with great sacrifice. In the Revolutionary War, General Casimir Pulaski gave his life for the cause of freedom. Today, we honor his selfless contributions and heroic service.

Born in Poland, Casimir Pulaski fought Russian oppression in his homeland. In 1776, Benjamin Franklin met Pulaski in France and successfully recruited him to join the American fight for liberty. In America, Pulaski distinguished himself at the Battle of Brandywine and was commissioned as a Brigadier General by General George Washington. After raising his own legion, a special infantry and cavalry division that included many foreign-born troops, he helped defend Charleston, South Carolina, before being mortally wounded at the siege of Savannah in 1779.

General Pulaski exemplifies the spirit and determination of Polish immigrants to America, and he embodies our Nation's highest ideals. On this day, we express our gratitude for all the contributions of Polish Americans to our Nation and for the strong relationship between the United States and Poland. By honoring this lasting friendship and remembering heroes like General Pulaski, we reaffirm our commitment to advancing our country's founding ideals and carry forward our heritage of freedom.

NOW, THEREFORE, I, GEORGE W. BUSH, President of the United States of America, by virtue of the authority vested in me by the Constitution and laws of the United States, do hereby proclaim October 11, 2005, as General Pulaski Memorial Day. I encourage Americans to commemorate this occasion with appropriate programs and activities honoring Casimir Pulaski and all those who defend freedom.

IN WITNESS WHEREOF, I have hereunto set my hand this seventh day of October, in the year of our Lord two thousand five, and of the Independence of the United States of America the two hundred and thirtieth.

B

[FR Doc. 05-20659

Filed 10-12-05; 9:19 am]

Billing code 3195-01-P